DEPARTMENT OF THE INTERIOR

Bureau of Land Management

[ID-300-1020-PH]

Notice of Public Meeting, Idaho Falls District Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The meeting will be held September 7 and 8, 2005 at the BLM Salmon Field Office, 50 U.S. Highway 93 South in Salmon, Idaho. The meeting will start at 1 p.m. September 7, with the public comment period as the first agenda item. The meeting will adjourn at or before 3 p.m. on the following day. This will be the final meeting of the 2004-05 session. The first meeting of the new session will be held in November or December.

SUPPLEMENTARY INFORMATION: The 15-member Council advises the Secretary of the Interior, through the Bureau of Land Management, on a variety of planning and management issues associated with public land management in the BLM Idaho Falls District (IFD), which covers eastern Idaho. At this meeting, topics we plan to discuss include:

• Sage Grouse Conservation strategies for the State of Idaho, if completed and released for public review.

• Updates on Budgetary and Legislative issues, including the current status on Wild Horse & Burro program.

• A field trip to discuss how grazing allotment assessments are completed, and a discussion of associated watershed issues.

• Updates on the latest litigation for BLM, and other current issues as appropriate.

• Other items of interest raised by the Council.

Transportation for the field trip will be provided for RAC members. Members of the public wishing to accompany the RAC on the field trip must furnish their own transportation.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. E-mail: David_Howell@blm.gov.

Dated: August 2, 2005.
Joe Kraayenbrink,
District Manager.

[FR Doc. 05-15706 Filed 8-8-05; 8:45 am]

BILLING CODE 4310-GG-P